FEDERAL RESERVE SYSTEM

Change in Bank Control Notices; Acquisitions of Shares of a Bank or Bank Holding Company

The notificants listed below have applied under the Change in Bank Control Act (Act) (12 U.S.C. 1817(j)) and 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 23, 2020.

A. Federal Reserve Bank of Atlanta (Kathryn Haney, Assistant Vice President) 1000 Peachtree Street NE, Atlanta, Georgia 30309. Comments can also be sent electronically to Applications.Comments@atl.frb.org:

1. James C. Falciani, as managing member of Falciani Investments I, LLC, and Jasalyn Falciani, individually and as trustee of James C. Falciani 2019 Family Trust, all of Decatur, Alabama; to join the previously approved Organizing Control Group and acquire voting shares of Merit Holdings, LLC, and thereby indirectly acquire voting shares of Merit Bank, both of Huntsville, Alabama.

B. Federal Reserve Bank of St. Louis (David L. Hubbard, Senior Manager) P.O. Box 442, St. Louis, Missouri 63166-2034. Comments can also be sent electronically to Comments.applications@stls.frb.org:

1. John Ed Chambers III, Danville, Arkansas; Gene C. Jones, Jerral Wayne Jones, Charlotte L. Anderson, Jerral W. Jones Jr., and John Stephen Jones, all of Frisco, Texas; Patricia C. Dixon, Plano, Texas; Kathryn C. Counce, Springdale, Arkansas; John Ed Chambers III, Charlotte L. Anderson, and Patricia C. Dixon, each as co-trustees to the Kathryn Chambers Counce Irrevocable Trust, Springdale, Arkansas; and

John Russell Meeks and Susan Lydia Chambers Sharits, both of Fayetteville, Arkansas; and Melissa Meeks Ireland, Dallas, Texas; to join the Chambers family control group by retaining voting shares of Chambers Bancshares, Inc., and thereby indirectly retaining voting shares of Chambers Bank, both of Danville, Arkansas.

In addition, John Stephen Jones, as general partner of the 2020 Chambers Family Limited Partnership, LLLP, Danville, Arkansas, and the GCJ Family, L.P., and as the sole owner of Marina Holdings, LLC, Frisco, Texas; to join the Chambers family control group by acquiring voting shares of Chambers Bancshares, Inc., and thereby indirectly acquiring voting shares of Chambers Bank.

C. Federal Reserve Bank of Minneapolis (Chris P. Wangen, Assistant Vice President), 90 Hennepin Avenue, Minneapolis, Minnesota 55480-0291:

1. Todd J. Zaun, Sartell, Minnesota, individually and as trustee of the Todd J. Zaun Grantor Trust and the Todd J. Zaun Revocable Trust, each of Sartell, Minnesota; and Steven M. Zaun, Pacific Palisades, California, individually and as trustee of the Steven M. Zaun Grantor Trust, and the SMZ Trust, each of Pacific Palisades, California; to join the Zaun Family Group, a group acting in concert to retain and acquire voting shares of Farmers & Merchants Agency, Inc., and thereby indirectly acquire voting shares of Farmers & Merchants State Bank of Pierz, both of Pierz, Minnesota.

D. Federal Reserve Bank of Kansas City (Dennis Denney, Assistant Vice President) 1 Memorial Drive, Kansas City, Missouri 64198-0001:

Michael D. Miller, as voting trustee of The Miller Investment Group Voting Trust Agreement, Melissa Miller, Bryce Dirks, Stacy Dirks, Logan Hedlund, and Kelsey Hedlund, all of Montezuma, Kansas; Jay Zehr, Joan Unruh, Jeff Unruh, and Sharleen Unruh, all of Copeland, Kansas; Terry Rabe and Melinda Rabe, both of Dodge City, Kansas; Tom Huelskamp and Janet Huelskamp, both of Fowler, Kansas; Mitch Little and Debbie Little, both of Meade, Kansas; Debora Calhoun, Cimarron, Kansas; Robert Irsik, Ingalls, Kansas; and Franck Meyer and Michelle Meyer, both of Seiling, Oklahoma; to become members of The Miller Investment Group Voting Trust Agreement and to acquire voting shares of FSB Bankshares, Inc., and indirectly acquire voting shares of Fowler State Bank, both of Fowler, Kansas.

Board of Governors of the Federal Reserve System, November 2, 2020.
Michele Taylor Fennell,
Deputy Associate Secretary of the Board.

[FR Doc. 2020-24674 Filed 11-5-20; 8:45 am]

BILLING CODE P